DEPARTMENT OF TRANSPORTATION

Federal Highway Administration

Environmental Impact Statement: Outagamie County, WI

AGENCY: Federal Highway Administration (FHWA), DOT.

ACTION: Notice of intent to prepare an Environmental Impact Statement.

SUMMARY: The FHWA is issuing this notice to advise the public that an Environmental Impact Statement is being prepared for a proposed highway improvement project on State Trunk Highway 15 in Outagamie County, Wisconsin, to be conducted by the Wisconsin Department of Transportation. The Notice of Intent (NOI) was originally prepared in 2003 but was inadvertently overlooked for submittal to the Federal Register for publication. Environmental activities, including involvement of state and federal agencies and other stakeholders, proceeded since the initiation of the project in 2003. Over five years have passed, and the process is now at the final Environmental Impact Statement stage. FHWA acknowledges the oversight and has now begun activities to recover from the inadvertent omission. The Environmental process will be brought up to date and made compliant with the 2005 SAFETEA-LU Environmental Review process, including development of a coordination plan and impact assessment methodologies. In the event other items in the process need to be updated to comply with SAFETEA-LU, the FHWA and the Wisconsin Department of Transportation will ensure those items are revised, as well.

FOR FURTHER INFORMATION CONTACT: Mark Chandler, FHWA, Suite 8000, 525 Junction Road, Madison, WI 53717; telephone: (608) 829-7514.

SUPPLEMENTARY INFORMATION: The Federal Highway Administration (FHWA), in cooperation with the Wisconsin Department of Transportation (WisDOT) is preparing an Environmental Impact Statement on a proposed highway improvement project on STH 15 in Outagamie County, Wisconsin. The proposed improvements may consist of adding two lanes of roadway adjacent to the existing facility, constructing two lanes as a bypass of the Village of Hortonville, constructing four lanes on a new location, or a combination thereof.

The proposed project begins southeast of the City of New London, near the intersection of CTH D and the USH 45 Bypass of New London. Existing STH 15 travels approximately 10.5 miles southeast through the Village of Hortonville, with the end terminus west of the Town of Greenville, entirely in Outagamie County. The completion of such a proposed highway facility on STH 15 would implement the recommendations of the long-term corridor preservation study completed in 2001. The “STH 15/USH 45 Corridor Preservation Report” was completed in 2001 and documents the need for the STH 15 expansion. These recommendations include addressing the facility deficiencies, providing for additional capacity, accommodating local and through traffic, improving safety and operations, providing adequate regional mobility, allowing adequate access to current and future growth and development, and being capable of supporting a suburbanizing area.

The Wisconsin Department of Transportation has met with local public officials and has created a Local Advisory Committee to include as much local and public input as possible. This type of local coordination and public involvement assisted in the identification of alternatives to be evaluated in the EIS, and will aid in the eventual selection of a preferred alternative.

Public involvement will be solicited throughout this process. Public information meetings will be held during the project study. Public notice will be given as to the time and place of all workshops and public information meetings. All meetings and workshops will be held at accessible times and locations.

To ensure that the full range of issues related to this proposed action is addressed and all significant issues identified, comments and suggestions are invited from all interested parties. Additional information may be found on the project Web site at: http://www.dot.wisconsin.gov/projects/d3/wis15/index.htm. Comments and questions concerning the proposed action and the Environmental Impact Statement should be directed to the FHWA at the address provided above.

(Catalog of Federal Domestic Assistance Program Number 20.205, Highway Planning and Construction. The regulations implementing Executive Order 12372 regarding intergovernmental consultation on Federal programs and activities apply to this program.)

Authority; 23 U.S.C. 315; 49 CFR 1.48.

Issued on: October 21, 2008.
Mark Chandler,
Design and Environment Engineer, Federal Highway Administration, Madison, Wisconsin.

[FR Doc. E8-25592 Filed 10-24-08; 8:45 am]

BILLING CODE 4910-22-P